DEPARTMENT OF ENERGY

Federal Energy Regulatory Commission

[Project No. 2323-216]

TransCanada Hydro Northeast Inc.; Notice of Application Accepted for Filing and Soliciting Comments, Motions To Intervene, and Protests

Take notice that the following hydroelectric application has been filed with the Commission and is available for public inspection:

a. Application Type: Request to Amend License Articles 401, 402, 403 and 406 to lower Somerset Reservoir elevation target for loon nesting.

b. Project No: P-2323-216.

c. Date Filed: April 10, 2017.

d. Applicant: TransCanada Hydro Northeast Inc.

e. Name of Project: Deerfield River Project.

f. Location: The project is located on the Deerfield River, in Windham and Bennington counties, Vermont, and Franklin and Berkshire counties, Massachusetts.

g. Filed Pursuant to: Federal Power Act, 16 U.S.C. 791a-825r.

h. Applicant Contact: John Ragonese, TransCanada Hydro Northeast Inc., 4 Park Street, Suite 402, Concord, NH 03301-6373, (603) 225-5528.

i. FERC Contact: Zeena Aljibury, (202) 502-6065, zeena.aljibury@ferc.gov.

j. Deadline for filing comments, motions to intervene, and protests: May 5, 2017.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2323-216.

k. Description of Request: TransCanada Hydro Northeast, Inc. requests approval to amend license Articles 401, 402, 403, and 406 as well as the approved Vermont Flow Monitoring and Reservoir Operations Plan to adjust the target elevation of Somerset Reservoir during the common loon nesting period from 2,128.58 feet mean sea level (msl) to 2,128.23 feet msl, as requested by the Vermont Agency of Natural Resources and the Vermont Division of Fish and Wildlife to protect observed loon nests. The licensee also requests, with agency support, to change the target elevation period from May 1 to May 15 to align with the end of the minimum flow constraint at the Searsburg development and avoid conflicting resource requirements. Finally, the licensee proposes, with agency support, to adjust the start of operations data collection for reporting to the resources agencies from April 1 to April 15.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits (P-2323) in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis and otherwise comply with the requirements of 18 CFR 4.34(b). All comments, motions to intervene, or protests should relate to project works that are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: April 20, 2017.
Kimberly D. Bose,
Secretary.

[FR Doc. 2017-08475 Filed 4-26-17; 8:45 am]

BILLING CODE 6717-01-P